DEPARTMENT OF HEALTH AND HUMAN SERVICES

National Institutes of Health

National Institute on Alcohol Abuse and Alcoholism Amended; Notice of Meeting

Notice is hereby given of a change in the meeting of the National Institute on Alcohol Abuse and Alcoholism Special Emphasis Panel, December 11, 2017, 1:00 p.m. to December 11, 2017, 3:30 p.m., National Institute on Alcohol Abuse and Alcoholism, 5635 Fishers Lane, Bethesda, MD 20892 which was published in the Federal Register on November 17, 2017, 82 FR 54389.

This notice is amended to change the meeting date from December 11, 2017 to December 13, 2017. The meeting time and location remains the same. The meeting is closed to the public.

Dated: November 21, 2017.
Melanie J. Pantoja,
Program Analyst, Office of Federal Advisory Committee Policy.

[FR Doc. 2017-25631 Filed 11-27-17; 8:45 am]

BILLING CODE 4140-01-P